DEPARTMENT OF THE INTERIOR

Bureau of Indian Affairs

Proposed Finding for Federal Acknowledgment of the Little Shell Tribe of Chippewa Indians of Montana

AGENCY: Bureau of Indian Affairs, Interior.

ACTION: Notice of proposed finding.

SUMMARY: Pursuant to 25 CFR 83.10(h), notice is hereby given that the Assistant Secretary—Indian Affairs proposes to acknowledge that the Little Shell Tribe of Chippewa Indians of Montana, P.O. Box 1384, Great Falls, Montana 59403, exists as an Indian tribe within the meaning of Federal law. This notice is based on a determination that the petitioner meets the requirements for a government-to-government relationship with the United States.

DATES: As provided by 25 CFR 83.10(i), any individual or organization wishing to comment on the proposed finding may submit arguments and evidence to support or rebut the proposed finding. This material must be submitted within 180 calendar days from the date of publication of this notice. As stated in the regulations, 25 CFR 83.10(i), interested and informed parties who submit arguments and evidence to the Assistant Secretary must also provide copies of their submissions to the petitioner. The names and addresses of commenters on the proposed finding will be available for public review. Commenters wishing to have their name and/or address withheld must state this request prominently at the beginning of their comments. Such a request will be honored to the extent allowable by law.

ADDRESSES: Comments on the proposed finding or requests for a copy of the report which summarizes the evidence and analyses that are the basis for this proposed finding should be addressed to the Bureau of Indian Affairs, Branch of Acknowledgment and Research, 1849 C Street NW, Mailstop 4660-MIB, Washington, D.C. 20240.

FOR FURTHER INFORMATION CONTACT: R. Lee Fleming, Chief, Branch of Acknowledgment and Research, (202) 208-3592.

SUPPLEMENTARY INFORMATION: This notice is published in accordance with authority delegated by the Secretary of the Interior to the Assistant Secretary by 209 DM 8.

Documentation for this proposed finding was submitted by the Little Shell Tribe of Chippewa Indians of Montana (Little Shell, or petitioner) or obtained by the independent research of the Bureau of Indian Affairs (BIA), Branch of Acknowledgment and Research (BAR).

The evidence shows that a substantial portion of the petitioner's members have ancestry from either the historical Pembina Band of Chippewa Indians prior to a treaty of 1863, or from a successor, the Turtle Mountain Band. The petitioner asserts to have its origins in a Chippewa band which had been led by a succession of three hereditary chiefs, all known as Little Shell. The petitioner is a combination of historical Métis, or “mixed blood,” groups. Before 1870, many of the petitioner's ancestors were part of the Métis populations along the Red River of the north at the Red River Settlement (now Winnipeg) in Canada and at Pembina and St. Joseph in North Dakota. These Métis populations of the mid-19th century were described by contemporary observers as socially and culturally distinct from both the European settlers and tribal Indians in the same area, but also as being related to and sometimes acting together with Indian tribes. In the early 1890's, some ancestors were listed on censuses of the Turtle Mountain Band.

In Montana, the petitioner's ancestors settled originally in two regions, migrating there by different routes between the 1860's and 1930's. One settlement region was north-central Montana, including both the Lewistown area and the Highline, the area along the railroad line from Wolf Point to Havre. Some ancestors of the petitioner's members began settling this region as early as the late 1860's and early 1870's. The other settlement region was the Front Range, the area along the eastern edge of the northern Rocky Mountains. Those ancestors of the petitioner who settled in this region arrived mostly after the failure of the Métis rebellion led by Louis Riel in Saskatchewan in 1885. The petitioner's ancestors settled originally in rural areas of Montana. Beginning in the 1910's and continuing into the depression of the 1930's, some of them began moving into neighborhoods on the fringes of the rural towns on the Front Range and along the Highline, or into Great Falls and Helena. Many of the petitioner's ancestors lived in segregated areas of these towns at some time before the mid-1950's or early 1960's. Those areas were not limited to the petitioner's ancestors, except on the Front Range, and other Métis and Indians also lived in these neighborhoods.

An organization was formed in 1927 in Hays, the petitioner's first formally organized predecessor in Montana. Joseph Dussome was elected in 1927 to lead the organization formed that year, and to lead organizations of different names in 1935, 1939, and 1949. The consistent leadership of Dussome and the consistent geographical region represented by his officers and area representatives demonstrate continuity from these organizations to the petitioning group. From the mid-1930's until the mid-1950's, two organizations advocated on behalf of the Montana Métis. Dussome's organization, known as the Landless Indians of Montana after 1939, largely drew support from the Highline and Lewistown area, while the Montana Landless Indians largely drew its support from urban areas and the Front Range. Since approximately 1955, the petitioner's members and ancestors have been part of the common political process of a single organization.

The Little Shell Tribe of Chippewa Indians of Montana adopted its current organizational name and its current constitution in 1977. Its membership requirements provide membership eligibility to individuals who can trace their ancestry to the Roe Cloud Roll, a list of unenrolled Indians in Montana which was prepared by the Office of Indian Affairs about 1938. The Little Shell petitioner had 3,893 members as of 1992. Its members are now geographically dispersed, mostly within Montana. The petitioner currently maintains an office in Great Falls, Montana.

The petitioner has not provided substantial evidence of unambiguous previous Federal acknowledgment. The evidence available for this finding does not demonstrate that the petitioner meets the requirements of previous Federal acknowledgment in sections 83.1 and 83.8 of the regulations. Therefore, the petitioner was not evaluated under the provisions of section 83.8(d) which modify the mandatory criteria for Federal acknowledgment.

This proposed finding departs from practice in previous acknowledgment decisions in certain respects, principally in giving different amounts of weight to various types of evidence than had been done in prior determinations. Precedent from earlier decisions are not binding on Department conclusions, but are useful as guidance for interpreting the regulations. This finding departs from prior decisions for meeting criteria (b) and (c) which depended upon specific evidence showing the continuity of tribal existence substantially without interruption. This finding departs from prior decisions for meeting criterion (a) which required evidence of specific identification of the petitioner as an Indian entity during each decade. This finding departs from prior decisions in which all previous petitioners who met criterion (e) demonstrated that at least 80 percent of their members descended from a historical tribe.

We believe such departures from previous practice on these matters are permissible and within the scope of the existing acknowledgment regulations. Those regulations do not specifically address these questions. Public comment is invited on these various matters, including the consistency of these proposed findings with the existing regulations. The petitioner and third parties may respond by submitting additional evidence or arguments relating to these matters during the comment period on this proposed finding. Such supplementary evidence may create a different record and a more complete factual basis for the final determination, and thus eliminate or reduce the scope of these contemplated departures from precedent.

Based on a review of the technical report, the charts prepared for each criterion, and some primary documents and background materials, and after consideration of the historical situations faced by this petitioner, the Department proposes to find that, although there is no specific evidence in the documentary record in this case for every time period, the evidence as a whole indicates that the Little Shell petitioner is a tribe.

The available documentation permits a proposed finding that the petitioner meets criterion (a). There are several examples of the identification of a group led by Joseph Dussome during the late 1930's and the decade of the 1940's as an Indian entity. Since 1949, the Little Shell petitioner has been consistently identified by various external observers as an Indian entity. It is noteworthy that several nearby tribes support the recognition of the Little Shell. There is limited evidence that the petitioner's ancestors were identified between 1900 and 1935 by external observers as Indians. This proposed finding accepts as a reasonable likelihood that references to the petitioner's individual ancestors as Indians and references to portions of their ancestors as residents of Indian settlements before the 1930's are consistent with the identifications of these and other ancestors of the petitioner as Indian groups after 1935. In order to have this proposed finding affirmed in the final determination, it would be in the petitioner's interest to provide during the comment period further evidence that external observers identified it as an Indian entity at various times between 1900 and 1935.

The available documentation permits a proposed finding that the petitioner meets criterion (b). The evidence indicates that at present there are portions of the petitioner's members residing within each of the two traditional rural regions of settlement in Montana who have been demonstrated to have social cohesion among themselves, and to have their respective ties to the members residing within the two traditional urban centers of settlement in the state. There is evidence that, after their migration to Montana, the petitioner's ancestors married other ethnic Métis individuals almost exclusively, and that those early intermarriages in Montana formed kinship ties that created social cohesion among the petitioner's ancestors. The available evidence does not show clearly that immigrants to Montana from Dakota or Canada necessarily moved together as a community or in a pattern of migration that maintained old community ties. This proposed finding accepts as a reasonable likelihood that patterns of social relationships among the Métis residents of settlements in North Dakota and Canada during the mid-19th century persisted among their descendants who migrated to Montana and appeared on the Federal census records of Montana for 1910 and 1920. The petitioner is encouraged to provide during the comment period further evidence that their ancestors continuously existed as social communities between the 1860's and 1930's.

The available documentation permits a proposed finding that the petitioner meets criterion (c). The attempt of the Little Shell group in Montana to achieve IRA status during the 1930's indicates its desire to obtain recognized status when the “landless” policies of the Federal Government were prohibitive. Many of the petitioner's ancestors participated in the activities of one or the other of two political organizations of “landless Indians” between the mid-1930's and the early 1950's. Since the mid-1950's the petitioner's members and ancestors have been part of the common political process of a single organization. The political processes of the petitioner's organization at present draw interest and support from both geographical regions of traditional settlement as well as the two main cities where members reside. Area representatives communicate political information and concerns between the council and the general membership. Several recent internal political conflicts indicate that current members are aware of the actions of the council and officers, and consider those actions to be important. This proposed finding concludes that evidence of some local leadership among a minority of the petitioner's ancestors in the past demonstrates a reasonable likelihood that patterns of political influence existed among many of the petitioner's ancestors before the 1930's. The petitioner is encouraged to provide during the comment period additional evidence to demonstrate more fully its political influence or authority over its members from historical times until the 1930's.

The petitioner meets criterion (d). The petitioner has a constitution, dated September 10, 1977, and resolutions which define its membership criteria and the procedures by which it governs its affairs and its members.

The available documentation permits a proposed finding that the petitioner meets criterion (e). A minority of the petitioner's members descend from individuals who received land scrip as “mixed-blood” relatives of the Pembina Band under the provisions of the treaties of 1863 and 1864, and therefore descend from a member of the band in a generation earlier than the treaty. A minority of the petitioner's members were on the judgment roll prepared by the Government in 1994 for the distribution of an Indian Claims Commission award for the taking of Indian territory in North Dakota. The available evidence indicates that about 48 percent of the petitioner's members trace their ancestry back to the historical Pembina Band of Chippewa or to its successor the Turtle Mountain Band. An additional 14 percent of the petitioner's members descend from a member of Rocky Boy's Band with Chippewa ancestry. If Pembina ancestry is assumed for the Chippewa element of the Rocky Boy's Band, as was done by the Indian Claims Commission and by the BIA in preparing the 1994 judgment roll, then possibly 62 percent of the petitioner's members have Pembina Chippewa descent. Genealogical information is missing for many of the petitioner's newest members, and it would be in the petitioner's interest to provide during the comment period further evidence that additional members descend from ancestors with established Pembina Chippewa descent.

The petitioner meets criterion (f). The evidence shows that less than 1 percent of the members of the petitioning group are members of a federally recognized tribe. Therefore, its membership is composed principally of persons who are not members of any acknowledged Indian tribe.

The petitioner meets criterion (g). There is no evidence that the petitioning group was the subject of congressional legislation that prohibited or terminated a relationship between it and the Federal Government.

For these reasons, the petitioner should be acknowledged to exist as an Indian tribe.

This proposed finding is based on the available evidence and does not preclude the submission of other evidence to the contrary. Such new evidence may result in a change in the conclusions reached in the proposed finding.

A report summarizing the evidence, reasoning, and analyses that are the basis for the proposed decision will be provided to the petitioner and interested parties, and is available to other parties upon written request (83.10(h)).

During the 180-day comment period (83.10(i)), the Assistant Secretary shall provide technical advice concerning the proposed finding and shall make available to the petitioner in a timely fashion any records used for the proposed finding not already held by the petitioner, to the extent allowable by Federal law (83.10(j)(1)). In addition, the Assistant Secretary shall, if requested by the petitioner or any interested party, hold a formal meeting for the purpose of inquiring into the reasoning, analyses, and factual bases for the proposed finding. The proceedings of this meeting shall be on the record. The meeting record shall be available to any participating party and become part of the record considered by the Assistant Secretary in reaching a final determination (83.10(j)(2)).

If third party comments are received during the comment period, the petitioner shall have a minimum of 60 days to respond to these comments. This period may be extended at the Assistant Secretary's discretion if warranted by the extent and nature of the comments (83.10(k)).

At the end of the comment and response periods, the Assistant Secretary shall consult with the petitioner and interested parties to determine an equitable time frame for consideration of written arguments and evidence submitted during the comment and response periods, and notify the petitioner and interested parties of the date such consideration begins (83.10(l)). The Assistant Secretary has the discretion to request additional information from the petitioner or commenting parties, and to conduct additional research (83.10(l)(1)). After consideration of the written arguments and evidence submitted during the comment period and the petitioner's response to the comments, the Assistant Secretary shall make a final determination regarding the petitioner's status. A summary of the final determination will be published in the Federal Register (83.10(l)(2)).

Dated: July 14, 2000.
Kevin Gover,
Assistant Secretary-Indian Affairs.

[FR Doc. 00-18490 Filed 7-20-00; 8:45 am]

BILLING CODE 4310-02-P